NUCLEAR REGULATORY COMMISSION

[Docket No. 50-400]

Shearon Harris Nuclear Power Plant, Unit 1; Notice of Withdrawal of Application for Amendment to Facility Operating License

The U.S. Nuclear Regulatory Commission (NRC or Commission) has granted the request of Carolina Power & Light Company (the licensee) to withdraw its April 30, 2007, application for proposed amendment to Facility Operating License No. NPF-63 for the Shearon Harris Nuclear Power Plant, Unit No. 1, located in Wake and Chatham Counties, North Carolina.

The proposed amendment would have revised the technical specifications pertaining to the narrow range containment sump water level instruments to allow different water level measurement instruments to be used.

The Commission had previously issued a Notice of Consideration of Issuance of Amendment published in the Federal Register on May 22, 2007 (72 FR 28720). However, by letter dated July 19, 2007, the licensee withdrew the proposed change.

For further details with respect to this action, see the application for amendment dated April 30, 2007, and the licensee's letter dated July 19, 2007, which withdrew the application for license amendment.

Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm.html. Persons who do not have access to ADAMS or who encounter problems in accessing the documents located in ADAMS should contact the NRC PDR Reference staff by telephone at 1-800-397-4209 or 301-415-4737, or by e-mail to pdr@nrc.gov.

Dated at Rockville, Maryland, this 30th day of August, 2007.
For the Nuclear Regulatory Commission.
Marlayna Vaaler,
Project Manager, Plant Licensing Branch II-2, Division of Operating Reactor Licensing, Office of Nuclear Reactor Regulation.

[FR Doc. E7-17869 Filed 9-10-07; 8:45 am]

BILLING CODE 7590-01-P